DEPARTMENT OF AGRICULTURE

Submission for OMB Review; Comment Request

April 20, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 24, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Emerging Markets Program.

OMB Control Number: 0551-0048.

Summary of Collection: The Emerging Markets Program is administered by the Foreign Agricultural Service (FAS) pursuant to its delegated authority under section 1542(d)(1) of the Food, Agriculture, Conservation, and Trade Act of 1990, as amended, 7 U.S.C. 5622 noted. The program supports assessing and providing technical assistance to emerging markets in furtherance of expanding markets for U.S. agricultural products. The program was reauthorized by the Agricultural Act of 2014 (section 3205) which became effective on February 7, 2014.

Need and Use of the Information: Under the USDA Emerging Markets Program, information will be collected from applicants desiring to receive grants under the program to determine the viability of requests for resources to implement activities authorized under the program. Recipients of grants under the program must submit performance and financial reports. The submitted information will be used to develop effective grant agreements and assure that statutory requirements and program objectives are met.

Description of Respondents: Not-for-profit institutions; Business or other for-profit; Federal Government; State, Local, or Tribal Government,

Number of Respondents: 50,

Frequency of Responses: Recordkeeping; Reporting: Annually,

Total Burden Hours: 2,100,

Ruth Brown,
Departmental Information Collection Clearance Officer.

[FR Doc. 2021-08462 Filed 4-22-21; 8:45 am]

BILLING CODE 3410-18-P